DEPARTMENT OF COMMERCE

International Trade Administration

[A-570-831]

Fresh Garlic from the People's Republic of China: Extension of Time Limits for Final Results of the Antidumping Duty Administrative Review and New Shipper Reviews

AGENCY: Import Administration, International Trade Administration, Department of Commerce.

EFFECTIVE DATE: February 26, 2009.

FOR FURTHER INFORMATION CONTACT: Nicholas Czajkowski or Summer Avery, AD/CVD Operations, Office 6, Import Administration, International Trade Administration, U.S. Department of Commerce, 14th Street and Constitution Avenue, NW, Washington, DC 20230; telephone: (202) 482-1395 and (202) 482-4052, respectively.

SUPPLEMENTARY INFORMATION:

Background

On December 27, 2007, the Department of Commerce (Department) published the initiation of an administrative review of fresh garlic from the People's Republic of China. See Initiation of Antidumping and Countervailing Duty Administrative Reviews, 72 FR 73315 (December 27, 2007). On January 2, 2008, the Department published the initiation of new shipper reviews of fresh garlic from the People's Republic of China. See Fresh Garlic from the People's Republic of China: Initiation of Antidumping Duty New Shipper Reviews, 73 FR 161 (January 2, 2008). On July 23, 2008, the Department aligned the new shipper reviews with the administrative review, in accordance with 19 CFR 351.214(j). See Memorandum to All Interested Parties from the Department Re: The Alignment of the New Shipper Reviews with the 13th Antidumping Duty Administrative Review of Fresh Garlic from the People's Republic of China (July 23, 2008), which is on file in the Central Records Unit, room 1117 of the main Commerce building. As such, the time limits for the new shipper reviews were aligned with those for the administrative review. On December 8, 2008, the Department published the preliminary results of this antidumping duty administrative review and the new shipper reviews. See Fresh Garlic from the People's Republic of China: Preliminary Results of the Antidumping Duty Administrative and New Shipper Reviews and Intent to Rescind, In Part, the Antidumping Duty Administrative and New Shipper Reviews, 73 FR 74462 (December 8, 2008). The period of review for this administrative review and the new shipper reviews is November 1, 2006 through October 31, 2007. The final results are currently due on April 7, 2009.

Extension of Time Limits for Final Results

Section 751(a)(3)(A) of the Tariff Act of 1930, as amended (the Act), provides that the Department will issue the final results in an administrative review of an antidumping duty order within 120 days after the date on which the preliminary results are published. However, the Department may extend the deadline for completion of the final results of an administrative review to 180 days if it determines it is not practicable to complete the review within the foregoing time period. See section 751(a)(3)(A) of the Act and 19 CFR 351.213(h)(2). Section 751(a)(2)(B)(iv) of the Act and 19 CFR 351.214(i)(2) also provide that the Department may extend the deadlines in a new shipper review if we determine that the case is extraordinarily complicated.

The Department determines that it is not practicable to complete the final results of the aligned administrative review and new shipper reviews by the current deadline of April 7, 2009. Specifically, the Department requires additional time to conduct sales and factors of production verifications and to analyze issues it considers to be extraordinarily complicated, including, but not limited to, the bona fides nature of certain transactions and surrogate financial ratios. Thus, we are fully extending the time for completion of the final results of the administrative review and new shipper reviews to no later than June 6, 2009, a Saturday. Where a statutory deadline falls on a weekend, federal holiday, or any other day when the Department is closed, the Department will continue its longstanding practice of issuing a determination on the next business day. See Notice of Clarification: Application of “Next Business Day” Rule for Administrative Determination Deadlines Pursuant to the Tariff Act of 1930, As Amended, 70 FR 24533 (May 10, 2005). Accordingly, in this instance, the due date for the final results will now be no later than June 8, 2009.

This notice is published in accordance with sections 751(a)(1) and 777(i)(1) of the Act.

Dated: February 20, 2009.
John M. Andersen,
Acting Deputy Assistant Secretary for Antidumping and Countervailing Duty Operations.

[FR Doc. E9-4132 Filed 2-25-09; 8:45 am]

BILLING CODE 3510-DS-S